DEPARTMENT OF TRANSPORTATION

Coast Guard

33 CFR Part 117

[CGD01-00-244]

Drawbridge Operation Regulations: Raritan River, Arthur Kill, and Their Tributaries, NJ

AGENCY: Coast Guard, DOT.

ACTION: Notice of temporary deviation from regulations.

SUMMARY: The Commander, First Coast Guard District, has issued a temporary deviation from the drawbridge operation regulations for the Perth Amboy railroad bridge, at mile 0.5, across the Raritan River in New Jersey. This deviation from the regulations allows the owner of the bridge to keep the bridge in the closed position from 10:30 a.m. on November 28, 2000 through 11 a.m. on November 30, 2000. This action is necessary to facilitate the inspection of the bridge wedge mechanism system at the bridge.

DATES: This deviation is effective from November 28, 2000, through November 30, 2000.

FOR FURTHER INFORMATION CONTACT: Judy Yee, Project Officer, First Coast Guard District, at (212) 668-7165.

SUPPLEMENTARY INFORMATION: The Perth Amboy railroad bridge, at mile 0.5, across the Raritan River has a vertical clearance in the closed position of 8 feet at mean high water and 13 feet at mean low water. The existing drawbridge operating regulations are listed at 33 CFR 117.747.

The bridge owner, New Jersey Transit (NJTRANSIT), requested a temporary deviation from the drawbridge operating regulations to facilitate the inspection of the bridge wedge mechanism system at the bridge. This deviation to the operating regulations allows NJTRANSIT to keep the Perth Amboy Bridge in the closed position from 10:30 a.m. on November 28, 2000 through 11 a.m. on November 30, 2000.

The bridge owner did not provide the required thirty-day notice to the Coast Guard for this deviation; however, this deviation was approved because the inspection/repairs are necessary in order to keep the bridge operating and prevent an unscheduled closure due to component failure.

In accordance with 33 CFR 117.35(c), this work will be performed with all due speed in order to return the bridge to normal operation as soon as possible. This deviation from the operating regulations is authorized under 33 CFR 117.35.

Dated: November 7, 2000.
Gerald M. Davis,
Captain, U.S. Coast Guard, Acting Commander, First Coast Guard District.

[FR Doc. 00-29516 Filed 11-16-00; 8:45 am]

BILLING CODE 4910-15-U